DEPARTMENT OF HEALTH AND HUMAN SERVICES

Substance Abuse and Mental Health Services Administration

Fiscal Year (FY) 2003 Funding Opportunity

AGENCY: Substance Abuse and Mental Health Services Administration, HHS.

ACTION: Notice of funding availability for SAMHSA Cooperative Agreements to Expand the National Child Traumatic Stress Initiative Intervention Development and Evaluation Centers.

SUMMARY: The Substance Abuse and Mental Health Services Administration (SAMHSA), Center for Mental Health Services (CMHS) announces the availability of FY 2003 funds for the cooperative agreement described below. A synopsis of this funding opportunity, as well as many other Federal Government funding opportunities, is also available at the Internet site: www.fedgrants.gov.

This notice is not a complete description of the cooperative agreement; potential applicants must obtain a copy of the Request for Applications (RFA), including Part I, Cooperative Agreements to Expand the National Child Traumatic Stress Initiative Intervention Development and Evaluation Centers, Part II, General Policies and Procedures Applicable to all SAMHSA applications for Discretionary Grants and Cooperative Agreements, and the PHS 5161-1 (Rev. 7/00) application form before preparing and submitting an application.

Funding Opportunity Title: Cooperative Agreements to Expand the National Child Traumatic Stress Initiative—Short Title: Child Traumatic Stress Initiative Intervention Development and Evaluation Centers.

Funding Opportunity Number: SM 03-011.

Catalog of Federal Domestic Assistance (CFDA) Number: 93.243.

Authority: Section: 582 of the Public Health Service Act, as amended and subject to the availability of funds.

Funding Opportunity Description: The Substance Abuse and Mental Health Services Administration (SAMHSA), Center for Mental Health Services (CMHS) is accepting applications for fiscal year 2003 cooperative agreements to expand the National Child Traumatic Stress Initiative (NCTSI) Intervention Development and Evaluation Centers. Funds are available under Section 582 to local mental health providers for the purpose of developing knowledge of best practices and providing mental health services to children and youth suffering from post-traumatic stress as a result of having experienced or witnessed a traumatic event.

The purpose of the NCTSI is to improve treatment and services for all children and adolescents in the United States who have experienced traumatic events or witnessed such events. A network of centers, the NCTSN, has been established to promote the development and use of effective treatment and services, to develop resources on trauma for professionals, consumers, and the public, and to develop trauma-focused public education and professional training and other field development activities.

This announcement solicits for three specific types of child and adolescent traumatic stress Intervention Development and Evaluation (IDE) Centers that will facilitate the NCTSI achievement of its overall goals of improving access to and quality of services for child and adolescent traumatic stress: Rural/Tribal/Frontier Intervention Development and Evaluation Center; Service Systems Models Intervention Development and Evaluation Center; and Traumatic Stress and Substance Abuse Intervention Development and Evaluation Center.

Eligible Applicants: The following domestic public and private non-profit entities are eligible to apply. Community-based and faith-based organizations, out-patient clinics, public or private universities, psychiatric or general hospitals, units of State or local governments, Indian tribes and tribal organizations, partnerships of multiple clinical centers, programs and/or community service providers applying as a single center (in which case one of the participating organizations must be designated as the applicant organization).

Applicant organizations may apply for the Intervention Development and Evaluation Centers (this announcement) and/or the Community Treatment and Services Centers (RFA SM-03-012). A separate, complete application is required for each category. An organization that is selected for funding in both programs will receive funding only for its proposed Intervention Development and Evaluation Center.

Organizations that are currently grantees of the NCTSI are not eligible to apply as the applicant organization under this announcement.

Applicant organizations must apply for one of the specific IDE centers—Rural/Tribal/Frontier; Service Systems Models; or Traumatic Stress and Substance Abuse—and address the requirements for that specific center in the application. Applicant organizations may submit separate applications for more than one of the specific IDE centers.

Due Date for Applications: August 7, 2003.

Estimated Funding Available/Number of Awards: It is expected that approximately $1.8 million will be available to fund three new centers in the Intervention Development and Evaluation Program of the National Child Traumatic Stress Network (NCTSN). Annual awards may be up to $600,000 in total costs (direct and indirect) for each year for up to 4 years. Actual funding levels will depend on the availability of funds. Second, third, and fourth project year funding may be supplemented by SAMHSA for activities that fall within the scope and intent of this RFA. Applications with proposed budgets that exceed $600,000 will be returned without review.

Is Cost Sharing Required: No.

Period of Support: Applicants must request support for four years and provide a separate budget for each year. While SAMHSA's intent for this program is to fund the full four year period requested, continued funding is contingent on the availability of funds.

How to Get Full Announcement and Application Materials: Complete application kits may be obtained by calling: the SAMHSA Mental Health Information Center at (800) 789-2647, Monday through Friday, 8:30 a.m. to 5 p.m., EDT; TDD: (301) 443-9006; Fax: (301) 984-8796; P.O. Box 42490, Washington, DC 20015. The PHS 5161-1 application form and the full text of the funding announcement are also available electronically via SAMHSA's World Wide Web Home Page: http://www.samhsa.gov (Click on ‘Grant Opportunities’).

When requesting an application kit, the applicant must specify the funding opportunity title and number for which detailed information is desired. All information necessary to apply, including where to submit applications and application deadline instructions, are included in the application kit.

Contact for Additional Information: Malcolm Gordon, Ph.D., Substance Abuse and Mental Health Services Administration, Center for Mental Health Services, Division of Prevention, Traumatic Stress, and Special Programs, 5600 Fishers Lane, Room 17C-17, Rockville, MD 20857, (301) 443-2957, E-mail: mgordon@samhsa.gov.

Dated: June 25, 2003.
Anna Marsh,
Acting Executive Officer, Substance Abuse and Mental Health Services Administration.

[FR Doc. 03-16621 Filed 7-1-03; 8:45 am]

BILLING CODE 4162-20-P